Proclamation 9643 of September 15, 2017

Prescription Opioid and Heroin Epidemic Awareness Week, 2017

By the President of the United States of America

A Proclamation

During Prescription Opioid and Heroin Epidemic Awareness Week, we draw renewed attention to the scourge that continues to devastate individuals, families, and communities across our Nation. Preliminary data indicates that approximately 64,000 Americans died last year of drug overdoses in the United States, the majority of them from opioids. The number of infants born with opioid dependence has more than quadrupled in the past decade. Nearly 100 Americans, on average, die each day from opioid overdoses, and overdose rates are highest among people between 25 to 54 years old, robbing so many of our young people of their potential. This is a genuine crisis that my Administration is working tirelessly to address.

The Department of Health and Human Services is leading an interagency effort to maximize the effect of the Comprehensive Addiction and Recovery Act (CARA) and 21st Century Cures Act (Cures Act) programs. In March, I issued an Executive Order establishing the President's Commission on Combating Drug Addiction and the Opioid Crisis (Commission) to study how the Federal Government can most effectively address the epidemic. The Commission will release its final recommendations this fall, and my Administration will rely on its findings to inform a whole-of-government emergency response plan. In addition, my FY 2018 Budget commits significant resources to fighting this epidemic, including $1.3 billion in investments for CARA and Cures Act programs, and other opioid-related initiatives that seek to prevent opioid abuse, improve access to treatment and recovery support services, and enhance overdose prevention programs.

This week, we reaffirm our commitment to fighting the opioid and heroin epidemic. Too many families know the enduring personal, emotional, and financial harm caused by prescription opioid and heroin addiction. To the men and women who are currently seeking or receiving treatment and to those who are in recovery: We stand with you, we pray for you, and we are working every single day to help you. As a Nation, we will come together to save lives and end this crisis.

NOW, THEREFORE, I, DONALD J. TRUMP, President of the United States of America, by virtue of the authority vested in me by the Constitution and the laws of the United States, do hereby proclaim September 17 through September 23, 2017, as Prescription Opioid and Heroin Epidemic Awareness Week. I call upon my fellow Americans to observe this week with appropriate programs, ceremonies, religious services, and other activities that raise awareness about the prescription opioid and heroin epidemic.

IN WITNESS WHEREOF, I have hereunto set my hand this fifteenth day of September, in the year of our Lord two thousand seventeen, and of the Independence of the United States of America the two hundred and forty-second.

[FR Doc. 2017-20380

Filed 9-20-17; 11:15 am]

Billing code 3295-F7-P